ENVIRONMENTAL PROTECTION AGENCY

[FRL-8334-2]

Proposed Administrative Order on Consent—Belden Cribbing Site

AGENCY: Environmental Protection Agency.

ACTION: Notice and request for public comment.

SUMMARY: As required by the Comprehensive Environmental Response, Compensation, and Liability Act of 1980, 42 U.S.C. 9601, et seq., as amended (“CERCLA”), notice is hereby given that an Administrative Settlement Agreement and Order on Consent for Removal Action (“Agreement”) is proposed by the United States, on behalf of the Environmental Protection Agency (“EPA”), and Union Pacific Railroad Company (“Union Pacific”) for payment of certain response costs and for performance of a removal action at the Belden Cribbing Site, in Eagle County, Colorado (“Site”).

The Site is located in a steep canyon on the slopes of Battle Mountain just south of the historic mining mill station of Belden, between the towns of Minturn and Red Cliff, in Eagle County, Colorado. The Site includes at least twenty-one significant waste rock piles from former mining operations and a series of deteriorating wood cribbings holding up the waste piles, several of which are located on Union Pacific's right-of-way along the river at the bottom of the canyon. The removal action will address the threat posed by the potential collapse of the cribbing structures and the resulting deposition into the Eagle River of the waste rock. Waste rock entering the river would release large quantities of zinc, among other metals, endangering the trout fishery and other aquatic resources.

This Agreement requires Union Pacific to provide EPA with site access in order for EPA and its contractors to conduct necessary response actions within the Site in accordance with the EPA's June 2006 Action Memorandum. Union Pacific will either remove the track and ties on the Union Pacific right-of-way from Belden to the southern end of the Repository or will cover such track and ties in-place in order to create the necessary temporary access road. The Agreement also includes a grant of permanent access on Union Pacific's right-of-way for a waste rock repository, for seep collection systems and for additional rock-fall protection devices. EPA will construct and install the necessary repository, rock-fall protection devices and seep collection systems, as described in the Action Memorandum.

Under the Agreement, Union Pacific will reimburse the United States a portion of past and estimated future response costs incurred or to be incurred, respectively, by the United States at or in connection with the Site. EPA has notified the State of Colorado of this action pursuant to Section 106(a) of CERCLA.

DATES: Comments should be received by August 2, 2007. The Agency will consider all comments received on the proposed Agreement and may modify or withdraw its consent to the settlement if comments received disclose facts or considerations which indicate that the settlement is inappropriate, improper or inadequate. The Agency's response to any comments received will be available for public inspection at the EPA Superfund Record Center, 1595 Wynkoop Street, 3rd Floor, in Denver, Colorado.

ADDRESSES: The proposed settlement and additional background information relating to the settlement are available for public inspection at the EPA Superfund Records Center, 1595 Wynkoop Street, 3rd Floor, in Denver, Colorado. Comments and requests for a copy of the proposed settlement should be addressed to Sharon Abendschan, Enforcement Specialist (8ENF-RC), Technical Enforcement Program, U.S. Environmental Protection Agency, 1595 Wynkoop Street, Denver, Colorado, 80202-2466, (303) 312-6957, and should reference the Belden Cribbing Site proposed Agreement.

FOR FURTHER INFORMATION CONTACT: James Stearns, Legal Enforcement Attorney (ENF-L), Legal Enforcement Program, U.S. Environmental Protection Agency, 1595 Wynkoop Street, Denver, Colorado 80202-2466, (303) 312-6912.

It Is So Agreed.
Dated: June 8, 2007.
Michael T. Risner,
Acting Assistant Regional Administrator, Office of Enforcement, Compliance and Environmental Justice, Region VIII.

[FR Doc. E7-12859 Filed 7-2-07; 8:45 am]

BILLING CODE 6560-50-P